DEPARTMENT OF HEALTH AND HUMAN SERVICES

Administration for Children and Families

[OMB No.: 0970-0123]

Proposed Information Collection Activity; Comment Request

Proposed Projects: Runaway and Homeless Youth—Homeless Management Information System (RHY-HMIS)

Description: The Runaway and Homeless Youth (RHY) Act, as amended by Public Law 106-71 (42 U.S.C. 5701 et seq.), mandates that the Department of Health and Human Services (HHS) report regularly to Congress on the status of HHS-funded programs serving runaway and homeless youth. Such reporting is similarly mandated by the Government Performance and Results Act Modernization Act of 2010. Organizations funded under the Runaway and Homeless Youth program are required by statute (42 U.S.C. 5712, 42 U.S.C. 5714-2) to meet certain data collection and reporting requirements. These requirements include maintenance of client statistical records on the number and the characteristics of the runaway and homeless youth, and youth at risk of family separation, who participate in the project, and the services provided to such youth by the project.

Respondents: The respondents are the youth who are recipients of services from RHY program grants, which are made up of States, localities, private entities and coordinated networks of such entities. Typical respondents are the youth that participate in the Basic Center, Transitional Living/Maternity Group Home, and Street Outreach programs.

Annual Burden Estimates
Instrument | Number of respondents | Number of responses per respondent | Average burden hours per response | Total burden hours
RHY-HMIS: Basic Center Program (Intake) | 41,000 | 1 | 0.38 | 15,580
RHY-HMIS: Basic Center Program (Exit) | 36,900 | 1 | 0.26 | 9,594
RHY-HMIS: Transitional Living Program (including Maternity Group Home program and TLP Demonstration Programs; Intake) | 6,000 | 1 | 0.38 | 2,280
RHY-HMIS: Transitional Living Program (including Maternity Group Home program and TLP Demonstration Programs; Exit) | 5,400 | 1 | 0.26 | 1,404
RHY-HMIS: Street Outreach Program (Contact) | 36,000 | 1 | 0.22 | 7,920
RHY-HMIS: Street Outreach Program (Engagement) | 14,400 | 1 | 0.28 | 4,032

Estimated Total Annual Burden Hours: 40,810.

In compliance with the requirements of Section 506(c)(2)(A) of the Paperwork Reduction Act of 1995, the Family and Youth Services Bureau within the Administration for Children and Families is soliciting public comment on the specific aspects of the information collection described above. Copies of the proposed collection of information can be obtained and comments may be forwarded by writing to the Administration for Children and Families, Family and Youth Services Bureau, Switzer Building 330 C Street SW., Washington, DC 20201, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2017-13017 Filed 6-21-17; 8:45 am]

BILLING CODE 4184-01-P